DEPARTMENT OF HOMELAND SECURITY

U.S. Customs and Border Protection

[CBP Dec. 15-06]

Tuna-Tariff Rate Quota; the Tariff-Rate Quota for Calendar Year 2015 Tuna Classifiable Under Subheading 1604.14.22, Harmonized Tariff Schedule of the United States (HTSUS)

AGENCY: U.S. Customs and Border Protection, Department of Homeland Security.

ACTION: Announcement of the quota quantity of tuna in airtight containers for Calendar Year 2015.

SUMMARY: Each year, the tariff-rate quota for tuna described in subheading 1604.14.22, Harmonized Tariff Schedule of the United States (HTSUS), is based on the apparent United States consumption of tuna in airtight containers during the preceding Calendar Year. This document sets forth the tariff-rate quota for Calendar Year 2015.

DATES: Effective Dates: The 2015 tariff-rate quota is applicable to tuna fish entered, or withdrawn from warehouse, for consumption during the period January 1, through December 31, 2015.

FOR FURTHER INFORMATION CONTACT: Headquarters Quota Branch, Interagency Collaboration Division, Trade Policy and Programs, Office of International Trade, U.S. Customs and Border Protection, Washington, DC 20229-1155, (202) 863-6560.

Background

It has been determined that 15,954,733 kilograms of tuna in airtight containers may be entered, or withdrawn from warehouse, for consumption during the Calendar Year 2015, at the rate of 6.0 percent ad valorem under subheading 1604.14.22, HTSUS. Any such tuna which is entered, or withdrawn from warehouse, for consumption during the current calendar year in excess of this quota will be dutiable at the rate of 12.5 percent ad valorem under subheading 1604.14.30 HTSUS.

Dated: April 15, 2015.
Sandra L. Bell,
Deputy Assistant Commissioner, Office of International Trade.

[FR Doc. 2015-08979 Filed 4-17-15; 8:45 am]

BILLING CODE 9111-14-P